DEPARTMENT OF AGRICULTURE

Food and Nutrition Service

Agency Information Collection Activities: FNS Information Collection Needs due to COVID-19

AGENCY: Food and Nutrition Service (FNS), Agriculture (USDA).

ACTION: Notice.

SUMMARY: In accordance with the Paperwork Reduction Act of 1995, this notice invites the general public and other public agencies to comment on this proposed information collection. This collection is an Extension of a Currently Approved Collection.

DATES: Written comments must be received on or before October 26, 2020.

ADDRESSES: Comments will be accepted through the Federal eRulemaking Portal. Go to http://www.regulations.gov, and follow the online instructions for submitting comments electronically.

All responses to this notice will be summarized and included in the request for Office of Management and Budget approval. All comments will be a matter of public record.

FOR FURTHER INFORMATION CONTACT: Requests for additional information or copies of this information collection should be directed to Melissa Abelev at melissa.abelev@usda.gov, or 703-305-2134.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: FNS Information Collection Needs due to COVID-19.

Form Number:

OMB Number: 0584-0654.

Expiration Date: November 31, 2020.

Type of Request: Extension of a currently approved collection.

Abstract: As the Food and Nutrition Service (FNS) is responding to the COVID-19 Coronavirus pandemic, it is implementing a number of waivers and program adjustments to ensure Americans in need can access nutrition assistance during the crisis while maintaining recommended social distancing practices. Two pieces of legislation have detailed many of the program adjustments available to FNS. The Families First Coronavirus Response Act of 2020 (PL 116-127) and the Coronavirus Aid, Relief, and Economic Security (CARES) Act (PL 116-136) provided a number of program adjustments and additional funding, respectively. The programs' authorizing legislation also allows for some waivers and flexibilities. The statutes describing these waivers and flexibilities also have reporting requirements. The Department obtained approval through an emergency clearance to collect the information as described in this Notice (OMB-0854-0654; expiration 11/30/2020). USDA anticipates the need to collect the data beyond the expiration date and is seeking approval of this Information Collection Request in order to meet the continuing information collection and reporting requirements detailed in the Families First Coronavirus Response Act of 2020, as well as program administration needs to implement the CARES Act of 2020.

Section 2302(a)(2) of the Families First Coronavirus Response Act of 2020 (FFCRA), enacted March 18, 2020, allows the Department of Agriculture to adjust, at the request of State agencies or by guidance in consultation with one or more State agencies, issuance methods and application and reporting requirements under the Food and Nutrition Act of 2008, as amended, (FNA) to be consistent with what is practicable under actual conditions in affected areas. Section 2302(c) of FFCRA requires the Secretary of Agriculture to submit a report to Congress following the end of the public health emergency, including a description of the measures taken to address the food security needs of affected populations during the emergency, including any information or data supporting State agency requests, among other information not included in this information collection (IC).

Further, Section 2203(a)(1) allows State agencies administering the Special Supplemental Nutrition Program for Women, Infants and Children (WIC) to request a waiver of 17(d)(3)(C)(i) of the Child Nutrition Act of 1966 (42 U.S.C. 1786(d)(3)(C)(i)), which requires applicants be physically present in the clinic. Local agencies are required to submit a report detailing the use and benefits of this waiver within one year of use of such waiver, and State agencies are required to submit a summary report of local agency usage of waivers under this Section within 18 months. Section 2204(a)(1) gives State agencies administering WIC and the WIC Farmers Market Nutrition Program (FMNP) the opportunity to request a waiver or modification of qualified regulatory requirements from USDA if such requirements cannot be met due to COVID-19, and such waivers are necessary to provide assistance to WIC and WIC FMNP participants. State agencies are also required under this Section to provide a report to USDA no later than one year after such waivers were granted, detailing their use of the waiver and how it improved services to women, infants and children.

In addition, Title II of the FFRCA allows a number of adjustments to the Child Nutrition Programs and with those adjustments requires the States to report to the Secretary of Agriculture how they used the waivers and whether they improved services to children. In order to comply with the requirements of the FFRCA, FNS will ask the States to report the required data points on existing FNS forms. These data will be collected electronically using the existing remarks fields in the FNS Food Program Reporting System (FPRS).

In all the instances described above, the information collection includes burden on State agencies for requesting waivers due to COVID-19 and reporting to FNS evaluation data on how the waiver has impacted State operations, which is a requirement on States in FFRCA.

Additionally, FNS is asking State agencies to report the USDA commodities used during a disaster on a more frequent basis. This information is currently collected in an OMB approved form, the FNS-292A, Report of Commodity Distribution for Disaster Relief (OMB Control Number 0584-0594 Food Programs Reporting System, expiration July 31, 2023). State distributing agencies may release commodity or donated foods procured by the Department of Agriculture (USDA) to disaster organizations to provide nutritional assistance to disaster victims. Under the Code of Federal Regulations (CFR) at 7 CFR 250.69(f), State distributing agencies shall provide a summary report to FNS within 45 days following termination of the disaster assistance, and maintain records of these reports and other information relating to disasters. OMB approved in an emergency collection (OMB 0584-0654, expiration 11/30/2020) for FNS to change the frequency of the collection of the commodity reports from 45 days after the completion of the disaster, to a weekly basis. This change was requested due to the number of requests and the burden of the FNS regional offices. Additionally, this request is being requested in order for FNS Food Distribution (FD) staff to monitor levels of USDA commodities more frequently to ensure States have access to USDA commodities in the coming weeks.

Affected Public: State, Local and Tribal Government: Respondent groups identified include: (1) State agencies and Indian Tribal Organizations that operate USDA Nutrition Assistance Programs; (2) Local WIC Agencies.

Estimated Number of Respondents: The total estimated number of respondents is 2,068. This includes: 53 SNAP State Agencies who will submit Waiver information, evaluation information, and weekly operational updates; 89 WIC State program staff who will submit waiver information; 89 WIC State program staff who will submit evaluation information; 49 Farmers Market Nutrition Program Staff who will submit waiver information; 49 Farmers Market Nutrition Program Staff who will submit evaluation information; 56 Child Nutrition Program staff who will submit information on form FNS10; 57 Child Nutrition Program staff who will submit information on FNS44; 53 Child Nutrition Program staff who will submit information on FNS418; 60 Food Distribution State program staff who will submit information on FNS292A; and 1808 WIC Local Agency Program staff who will submit information on an evaluation survey.

As shown in the respondent burden table below (Table 1), FNS anticipates two types of respondents: State Government workers and Local Government workers at WIC agencies. Together, their reporting burden is 26,386 burden hours. Note that the estimates below assume data collection over twelve months, though they will be revised should the Public Health Crisis timeline differ.

SNAP State Program Staff will have two types of burden:

• Waivers: FNS anticipates up to 3 waivers requests per month per State agency. SNAP Program Staff in 53 State Agencies will submit approximately 3 waiver requests per month. Each waiver will take about 10 hours to complete for a total of 19,080 burden hours. (53 State Agency Staff * 3 waivers per months * 12 months (36 waiver request) = 1,908 responses * 10 hours = 19,080 burden hours)

• Data Reports: SNAP Program Staff in 53 State Agencies will submit 3 data reports, reporting on the evaluation data required by FFRCA. It will take them about 3 hours to report the data in the data reports for a total of 159 burden hours. (53 State Agency Staff * 3 data reports = 159 responses * 3 hours = 477 burden hours).

• Weekly Operational Update: SNAP program staff in 53 State Agencies will submit 1 weekly update to their FNS Regional Offices. Each update will take approximately 1 hour to complete. (53 State agencies * 52 weekly reports = 2,756 annual responses * 1 hour per response = 2,756 burden hours).

WIC State Program Staff will have two types of burden:

• Waivers: FNS anticipates up to 40 waiver opportunities under the Public Health Emergency. Each state will request about 14 waivers. Each waiver request will take about 15 minutes to complete for a total of 311.5 burden hours. (89 State Agency Staff * 14 waivers = 1,246 responses * .25 hours = 311.5 burden hours)

• Evaluation Information: WIC Program Staff in 89 State Agencies will submit 1 survey, reporting on the evaluation data required by the FFRCA. It will take them about 2 hours to complete the survey, for a total of 178 burden hours. (89 State Agency Staff * 1 survey = 89 Responses * 2 hours = 178 burden hours)

• MIS Data Pull: FNS will request states submit a data pull from their MIS systems to help facilitate the evaluation data reporting on the number of WIC participants affected by different waivers. (89 WIC State Agencies * 1 data pull = 89 Responses * 1.5 hours per response = 133.5 burden hours)

FMNP State Program Staff will have two types of burden:

• Waivers: FNS anticipates up to 8 waiver opportunities under the Public Health Emergency and each state will request 4 waivers. FMNP Program Staff in 49 State Agencies will submit approximately 4 waiver requests. Each waiver request will take about 15 minutes to complete for a total of 49 burden hours. (49 State Agency Staff * 4 waivers = 196 responses * .25 hours = 49 burden hours)

• Evaluation Information: FMNP Program Staff in 49 State Agencies will submit 1 State Plan, reporting on the evaluation data required by the FFRCA. It will take them about 3 hours to complete the report, for a total of 147 burden hours. (49 State Agency Staff * 1 State Plan = 49 Responses * 3 hours = 147 burden hours)

CN State Program Staff will submit data on three types of existing FNS Forms:

• FNS10: CN Program staff in 56 States will submit information on an existing FNS form in the remarks section. They will enter the data monthly for the 30-day report and for the 90-day report for two submissions per month. It will take about 15 minutes to complete for a total of 336 burden hours. (56 State Agency Staff * 24 submissions = 1,344 responses * .25 hours = 336 burden hours)

• FNS44: CN Program staff in 57 States will submit information on an existing FNS form in the remarks section. They will enter the data monthly. It will take about 15 minutes to complete for a total of 171 burden hours. (57 State Agency Staff * 12 submissions = 684 responses * .25 hours = 171 burden hours).

• FNS418: CN Program staff in 53 States will submit information on an existing FNS form in the remarks section. They will enter the data monthly. It will take about 15 minutes to complete for a total of 159 burden hours. (53 State Agency Staff * 12 submissions = 636 responses * .25 hours = 159 burden hours).

Food Distribution State program Staff will have one type of burden:

• FNS292A: Food Distribution Program Staff in 60 State Agencies will submit form FNS292A 52 times (weekly over twelve months) This is an increase in burden for an existing, approved form. It will take them approximately 15 minutes to complete the form each time for a total of 780 burden hours. (60 State Agency Staff * 52 submissions = 3,120 responses * .25 hours = 780 burden hours).

WIC Local Government Agency Staff: Local Agency staff in 1,808 Local WIC agencies will submit 1 survey to FNS. It will take 1 hour to complete and submit the report for a total of 1,808 burden hours (1,808 Local Agency staff * 1 submission = 1,808 responses * 1 hours = 1,808 burden hours)

Pamilyn Miller,
Administrator, Food and Nutrition Service.

Table 1—Respondent Burden Table
Respondent category | Type of respondents | Instruments | Number of respondents | Frequency of response | Total annual responses | Hours per response | Annual burden (hours)
State Gov. | SNAP State Program | Waiver | 53 | 36 | 1,908 | 10 | 19,080
| SNAP State Program | Data Reports | 53 | 3 | 159 | 3 | 477
| SNAP State Agency | Weekly Operational Update | 53 | 52 | 2,756 | 1 | 2,756
| WIC State Program Staff | Waiver | 89 | 14 | 1,246 | 0.25 | 311.5
| WIC State Program Staff | Evaluation Survey | 89 | 1 | 89 | 2 | 178
| WIC State Program Staff | MIS Data Pull | 89 | 1 | 89 | 1.5 | 133.5
| FMNP State Program Staff | Waiver | 49 | 4 | 196 | 0.25 | 49
| FMNP State Program Staff | Evaluation Info | 49 | 1 | 49 | 3 | 147
| CN State Program Staff | Form: FNS10 | 56 | 24 | 1,344 | 0.25 | 336
|  | Form: FNS44 | 57 | 12 | 684 | 0.25 | 171
|  | Form: FNS418 | 53 | 12 | 636 | 0.25 | 159
| Food Dist. State Program | Form: FNS292A | 60 | 52 | 3,120 | 0.25 | 780
Local Government | WIC Local Agency Program Staff | Report to State | 1,808 | 1 | 1,808 | 1 | 1,808
|  |  |  |  | 0 | 0.25 | 0
Respondent Total |  |  | 2,066 | 6.817 | 14,084 | 1.873 | 26,386

[FR Doc. 2020-18860 Filed 8-26-20; 8:45 am]

BILLING CODE 3410-30-P